ENVIRONMENTAL PROTECTION AGENCY

[FRL-10025-36-OP]

National Environmental Justice Advisory Council; Notification for a Virtual Public Meeting.

AGENCY: Environmental Protection Agency.

ACTION: Notification for a public meeting.

SUMMARY: Pursuant to the Federal Advisory Committee Act (FACA), the U.S. Environmental Protection Agency (EPA) hereby provides notice that the National Environmental Justice Advisory Council (NEJAC) will meet on the dates and times described below. The meeting is open to the public. Members of the public are encouraged to provide comments relevant to the specific issues being considered by the NEJAC. For additional information about registering to attend the meeting or to provide public comment, please see “Registration” under SUPPLEMENTARY INFORMATION. Pre-registration is required.

DATES: The NEJAC will hold a virtual public meeting over two (2) days on Wednesday, August 18, 2021, and Thursday, August 19, 2021, from approximately 3:00 p.m. to 7:00 p.m., Eastern Daylight Time each day. A public comment period relevant to the specific issues will be considered by the NEJAC during the meeting (see SUPPLEMENTARY INFORMATION). Members of the public who wish to participate during the public comment period must pre-register by 11:59 p.m., Eastern Daylight Time, one (1) week prior to the start of the meeting date.

FOR FURTHER INFORMATION CONTACT: Karen L. Martin, NEJAC Designated Federal Officer, U.S. EPA; please send via email to: nejac@epa.gov; or contact at telephone: (202) 564-0203. Additional information about the NEJAC is available at https://www.epa.gov/environmentaljustice/national-environmental-justice-advisory-council.

SUPPLEMENTARY INFORMATION: The meeting discussion will focus on several topics including, but not limited to, the discussion and deliberation of work group activity and recommendations to the EPA Administrator.

The Charter of the NEJAC states that the advisory committee will provide independent advice and recommendations to the EPA Administrator about broad, crosscutting issues related to environmental justice. The NEJAC's efforts will include evaluation of a broad range of strategic, scientific, technological, regulatory, community engagement and economic issues related to environmental justice.

Registration: Individual registration is required for the virtual public meeting. At this meeting, a single registration submission will provide access to both days of the public meeting. Information on how to register is located at https://usepa.zoomgov.com/webinar/register/WN_g1xjk0cbSBCw7hKZurpMCA. Registration for the meetings is available through the scheduled end time of the meeting day. Registration to speak during the public comment will close at 11:59 p.m., Eastern Daylight Time, one (1) week prior to meeting date. When registering, please provide your name, organization, city and state, and email address for follow up. Please also indicate whether you would like to provide public comment during the meeting, and whether you are submitting written comments at time of registration.

A. Public Comment

Every effort will be made to hear from as many registered public commenters during the time specified on the agenda. Individuals or groups making remarks during the public comment period will be limited to three (3) minutes. To accommodate the number of people who want to address the NEJAC, only one representative from each community, organization, or group will be allowed to speak. Submitting written comments for the record are strongly encouraged. The suggested format for individuals providing public comments is as follows: Name of speaker; name of organization/community; city and state; and email address; brief description of the concern, and what you want the NEJAC to advise EPA to do. Written comments can be submitted up to two (2) weeks after the meeting date. All written comments should use the webform at https://www.epa.gov/environmentaljustice/forms/national-environmental-justice-advisory-council-nejac-public-comment. To submit comments with additional materials, please send via email to: nejac@epa.gov.

B. Information About Services for Individuals With Disabilities or Requiring English Language Translation Assistance

For information about access or services for individuals requiring assistance, please contact Karen L. Martin, via email at: nejac@epa.gov. To request special accommodations for a disability or other assistance, please submit your request at least seven (7) working days prior to the meeting, to give EPA sufficient time to process your request. All requests should be sent to the email, listed in the FOR FURTHER INFORMATION CONTACT section.

Matthew Tejada,
Director, Office of Environmental Justice.

[FR Doc. 2021-13818 Filed 6-28-21; 8:45 am]

BILLING CODE 6560-50-P